DEPARTMENT OF TRANSPORTATION

Federal Railroad Administration

[Docket No. FRA 2011-001-N-4]

Proposed Agency Information Collection Activities; Comment Request

AGENCY: Federal Railroad Administration (FRA), Department of Transportation.

ACTION: Notice and request for comments.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than May 31, 2011.

ADDRESSES: Submit written comments on any or all of the following proposed activities by mail to either: Mr. Robert Brogan, Office of Safety, Planning and Evaluation Division, RRS-21, Federal Railroad Administration, 1200 New Jersey Ave., SE., Mail Stop 25, Washington, DC 20590, or Ms. Kimberly Toone, Office of Information Technology, RAD-20, Federal Railroad Administration, 1200 New Jersey Ave., SE., Mail Stop 35, Washington, DC 20590. Commenters requesting FRA to acknowledge receipt of their respective comments must include a self-addressed stamped postcard stating, “Comments on OMB control number __ .” Alternatively, comments may be transmitted via facsimile to (202) 493-6216 or (202) 493-6479, or via e-mail to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 25, Washington, DC 20590 (telephone: (202) 493-6292) or Ms. Kimberly Toone, Office of Information Technology, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60 days' notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of three currently approved information collection activities that FRA will submit for clearance by OMB as required under the PRA:

OMB Control Number: 2130-0035.

Type of Request: Extension of a currently approved collection.

Affected Public: Businesses.

Form Number(s): N/A.

Abstract: The collection of information is due to the railroad operating rules set forth in 49 CFR part 217 which require Class I and Class II railroads to file with FRA copies of their operating rules, timetables, and timetable special instructions, and subsequent amendments thereto. Class III railroads are required to retain copies of these documents at their systems headquarters. Also, 49 CFR 220.21(b) prescribes the collection of information which requires railroads to retain one copy of their current operating rules with respect to radio communications and one copy of each subsequent amendment thereto. These documents must be made available to FRA upon request. Through these rules, FRA learns the condition of operating rules and practices with respect to trains and instructions provided by the railroad to their employees in operating practices.

Reporting Burden:

CFR section | Respondent universe | Total annual responses | Average time per response | Total annual burden hours
217.7—Copy—FRA—Operating rules, timetables, Class I & II RRs | 1 new railroad | 1 submission | 1 hour | 1
—Amendments | 55 railroads | 165 amendments | 20 Minutes | 55
—Copy of operating rules—Class III | 20 new railroads | 20 submissions | 55 Minutes | 18
—Amendments | 632 railroads | 1,896 amendments | 15 Minutes | 474
217.9—Railroad and Railroad Testing Officer Responsibilities | 687 railroads | 4,732 field trained officers/training sessions | 8 hours | 37,856
—Records | 687 railroads | 4,732 records | 2 minutes | 158
Copy—Prog. for Perf. of Operational Tests | 20 new railroads | 20 Programs | 9.92 hours | 198
—Records of Operational Tests/Inspections | 687 railroads | 9,180,000 records | 5 minutes | 765,000
—Amendments | 55 railroads | 165 amendments | 1.92 hours | 317
—Quarterly Review of Accident/Incident Data/Prior Op. Tests/Insp | 687 railroads | 148 reviews | 1 hour | 148
—Designated Officers & Conduct of 6 Mo. Rev | 687 railroads | 37 designations + 74 reviews | 5 seconds + 1 hour | 74
—Designated Officers & Conduct of Six Month Review by Passenger/Commuter Railroads | 687 railroads | 20 designations + 34 reviews | 5 seconds + 1 hour | 34
—Records of Periodic Reviews | 687 railroads | 589 review records | 1 minute | 10
—Annual Summary on Operational Tests/Insp | 687 railroads | 37 summary records | 61 minutes | 38
—FRA Disapproval of RR Program of Operational Tests/Insp. & Response by RR | 687 railroads | 20 supporting documents | 1 hour | 20
—Amended Prog. Docs. | 687 railroads | 20 amended documents | 30 minutes | 10
271.11—Instruction of Program Employees | 687 railroads | 130,000 instr. employees | 8 hours | 1,040,000
—New RR & Copy of Program of Op. Tests | 20 new railroads | 20 Programs | 8 hours | 160
—Amendments to Op. Rules Instr. Program | 687 railroads | 220 amendments | 55 minutes | 202
218.95—Instruction, Training, Examination—Records | 687 railroads | 98,000 records | 5 minutes | 8,167
—Response to FRA Disapproval of Program | 687 railroads | 50 written/oral submissions | 1 hour | 50
—Programs Needing Amendment | 687 railroads | 20 amended programs | 30 minutes | 10
218.97—Written Procedures on Good Faith Challenges by Employees Re: Actions | 687 railroads | 687 written procedures | 2 hours | 1,374
—Employee Copy of Written Procedures | 687 railroads | 130,000 copies | 6 minutes | 13,000
—Employee Copy of Amended Procedures | 687 railroads | 130,000 copies | 3 minutes | 6,500
—Good Faith Challenges by RR Employees | 98,000 RR Employees | 15 challenges | 10 minutes | 3
—RR Responses to Empl. Challenge | 687 railroads | 15 responses | 5 minutes | 1
—Immediate Review of Employee Challenge | 687 railroads | 5 immediate reviews | 15 minutes | 1
—RR Officer Explanation of Federal Law Protection Against Retaliation | 687 railroads | 5 explanations | 1 minute | .08
—Documented Protest by RR Employee | 687 railroads | 10 written protests | 15 minutes | 3
—Copies of Protests | 687 railroads | 10 protest copies | 1 minute | .17
—Further Reviews | 687 railroads | 3 further reviews | 15 minutes | 1
—Written Verification Decision to Employee | 687 railroads | 10 verification decisions | 10 minutes | 2
—Copy of Written Procedures at RR Hdtrs | 687 railroads | 760 copies of procedures | 5 minutes | 63 hours
—Copy of Verification Decision at RR Headquarters & Division Headquarters | 687 railroads | 20 verification decision copies | 5 minutes | 2
218.99—Shoving or Pushing Movements: |  |  |  |
—Operating Rule Modifications | 687 railroads | 687 rule modifications | 1 hour | 687
—Locomotive Engineer Job Briefing Before Movement | 100,000 RR Employees | 60,000 job briefings | 1 minute | 1,000
—Point Protection Determinations & Signals/Instructions to Control Movements | 100,000 RR Employees | 87,600,000 determinations + 87,600,000 signals/instructions | 1 minute + 1 minute | 2,920,000
—Remote Control Movements-Verbal Confirmation | 100,000 RR Employees | 876,000 confirmations | 1 minute | 14,600
—Remote Control Determinations That Zone Is Not Jointly Occupied/Track Clear | 100,000 RR Employees | 876,000 determinations | 1 minute | 14,600
—Dispatcher Authorized Train Movements | 6,000 RR Dispatchers | 30,000 auth. movements | 1 minute | 500
—Written Procedures to Determine Track Occupancy | 687 railroads | 41 written procedures | 30 minutes | 21
—Track Location—Designation | 687 railroads | 41 track designations | 30 minutes | 21
218.101—Operating Rule Re: Leaving Rolling & On-Track MOW Equipment in the Clear | 687 railroads | 687 amended op. rules | 30 minutes | 344
218.103—Hand-Operated Switches—RR Operating Rule That Complies with 218.103 | 687 railroads | 687 modified operating rules | 1 hour | 687
—Specification of Minimum Job Briefing Requirements | 687 railroads | 632 modified op. rules | 30 minutes | 316
—Employee Operating or Verifying Position of Hand-operated Switches: Job Briefings | 687 railroads | 1,125,000 job briefings | 1 minute | 18,750
218.105—Additional Requirements for Hand Operated Main Track Switches—Job Briefing | 687 railroads | 60,000 job briefings | 1 minute | 1,000
—Roadway Worker Report on Position of Switches to Roadway Worker in Charge (RWIC) or Designated Employee Conveying Information to RWIC | 687 railroads | 100,000 empl. reports + 100,000 conveyances | 1 minute + 1 minute | 3,334
—Dispatcher Acknowledgment of Switch Position and Employee Confirmation to Train Dispatcher | 687 railroads | 60,000 acknowledgment + 60,000 confirmations | 30 seconds + 5 seconds | 583
218.109—Hand Operated Fixed Derails: Job Briefings | 687 railroads | 562,500 hours | 30 seconds | 4,688

Total Estimated Responses: 188,794,835.

Total Estimated Annual Burden: 4,855,081 hours.

Status: Regular Review.

Title: Roadway Worker Protection.

OMB Control Number: 2130-0539.

Abstract: This rule establishes regulations governing the protection of railroad employees working on or near railroad tracks. The regulation requires that each railroad devise and adopt a program of on-track safety to provide employees working along the railroad with protection from the hazards of being struck by a train or other on-track equipment. Elements of this on-track safety program include an on-track safety manual; a clear delineation of employers' responsibilities, as well as employees' rights and responsibilities thereto; well- defined procedures for communication and protection; and annual on-track safety training. The program adopted by each railroad is subject to review and approval by FRA.

Form Number(s): FRA 6180.119.

Affected Public: Businesses.

Frequency of Submission: On occasion.

Reporting Burden:

CFR section | Respondent universe | Total annual responses | Average time per response | Total annual burden hours
Form FRA F 6180.119 | 350 Safety Inspectors | 150 report forms | 4 hours | 600
—RR Workplace Safety Violation Report Form
214303/309—On-Track Safety Programs
—Amendments to Program | 60 railroads + 584 railroads | 20 amended programs + 584 amended prog. | 20 hours; 4 hours | 2,736
—Subsequent Years: New Programs | 5 railroads | 5 safety programs | 250 hours | 1,250
214.313—Roadway Worker Challenge to Directive | 20 railroads | 80 challenges | 4 hours | 320
214.315/335—Supervision and Communication—Job Briefings | 50,000 Roadway Workers | 16,350,000 briefings | 2 minutes | 545,000
214.321—Exclusive Track Occupancy: Written Authorities | 8,583 Employees/Roadway Workers | 700,739 written authorities | 1 minute | 11,679
214.325—Train Coordination: Roadway Worker Communication with Train Crew | 50,000 Roadway Workers | 36,500 communications | 15 seconds | 152
214.327—Inaccessible Track: Establishment and Direction by Roadway Worker in Charge | 703 railroads | 50,000 occurrences | 10 minutes | 8,333
214.337—On-Track Safety for Lone Workers | 703 railroads | 2,080,000 statements | 30 seconds | 17,333
—Written Statement of On-Track Safety by Lone Worker
214.343/345347/349/351/353/355—Training | 50,000 Roadway Workers | 50,000 trained employees | 4.50 hours | 225,000
—Training Records | 50,000 Roadway Workers | 50,000 records | 2 minutes | 1,667
214.503—Good Faith Challenges—Notification | 50,000 Roadway Workers | 125 notifications | 10 minutes | 21
—Resolution Procedures | 644 railroads | 10 procedures | 2 hours | 20
214.505—List of New/Designated Existing On-Track Roadway Maintenance Machines Conforming with Paragraph (a) of This Section | 644 railroads | 9 lists | 1 hour | 9
214.507—Built Light Weight Displayed on Each New Roadway Maintenance Machine (RMM) | 644 railroads | 1,000 stickers/stencils | 5 minutes | 83
214.511—Clearly Identifiable Horn Triggering Mechanism on Each New RMM | 644 railroads | 3,700 identified mechanisms | 5 minutes | 308
214.513—Clearly Identifiable Horn Triggering Mechanism on Each Existing RMM | 703 railroads | 200 identified mechanisms | 5 minutes | 17
214.515—Overhead Covers for Existing RMMs—Requests and RR Responses | 644 railroads | 500 employee requests + 500 RR responses | 10 minutes + 20 minutes | 250
214.517—Display of Light Weight on Existing RMMs | 644 railroads | 500 stencils/displays | 5 minutes | 42
214.518—Safe and Secure Position on On- Track RMMs—Clearly Identified | 644 railroads | 1,000 stencils/marks/notices | 5 minutes | 83
214.523-Hi-Rail Vehicles—Inspections and Records | 644 railroads | 2,000 inspections/records | 1 hour | 2,000
—Tagging and Reporting Non-compliant Conditions | 644 railroads | 500 tags + 500 reports | 10 minutes + 15 minutes | 208
214.527—On-Track RMMs—Tagging and Reporting of Non-complying Conditions | 644 railroads | 550 tags + 550 reports | 5 minutes + 15 minutes | 184
214.533—Schedule of Repairs for Hi-Rail Vehicles and RMMs—Compliance Records | 644 railroads | 250 records | 15 minutes | 63

Total Estimated Responses: 19,329,972.

Total Estimated Annual Burden: 817,358 hours.

Status: Regular Review.

OMB Control Number: 2130-0552.

Title: Locomotive Cab Sanitation Standards.

Type of Request: Extension of a currently approved collection.

Affected Public: Businesses.

Form Number(s): N/A.

Abstract: The collection of information is used by FRA to promote rail safety and the health of railroad workers by ensuring that all locomotive crew members have access to toilet/sanitary facilities—on as needed basis—which are functioning and hygienic. Also, the collection of information is used by FRA to ensure that railroads repair defective locomotive toilet/sanitary facilities within 10 calendar days of the date on which these units becomes defective.

Frequency of Submission: On occasion.

Reporting Burden:

CFR section | Respondent universe | Total annual responses | Average time per response | Total annual burden hours
229.137(d)—Defective Locomotive Toilet Facility—Tagging | 744 railroads | 11,700 tags/notices | 90 seconds | 293
229.137(e) Defective But Sanitary Locomotive Toilet Facility—Tagging | 744 railroads | 7,956 tags/notices | 90 seconds | 199
229.137(f) Switching or Transfer Service—Defective Locomotive Toilet Facility—Notation on Daily Inspection Report | 744 railroads | 93,600 notations | 30 seconds | 780

Total Estimated Responses: 113,256.

Total Estimated Annual Burden: 1,272 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on March 25, 2011.
Kimberly Coronel,
Director, Office of Financial Management, Federal Railroad Administration.

[FR Doc. 2011-7463 Filed 3-31-11; 8:45 am]

BILLING CODE 4910-06-P